DEPARTMENT OF LABOR

Employment and Training Administration

Proposed Collection of Follow-up Survey Information for Green Jobs and Health Care Impact Evaluation of American Recovery and Reinvestment Act (ARRA)-Funded Grants; New Collection

AGENCY: Employment and Training Administration (ETA), Labor.

ACTION: Notice.

SUMMARY: The Department of Labor (Department or DOL), as part of its continuing effort to reduce paperwork and respondent burden, conducts a pre-clearance consultation program to provide the general public and Federal agencies with an opportunity to comment on proposed and/or continuing collections of information in accordance with the Paperwork Reduction Act of 1995 [44 U.S.C. 3505(c)(2)(A)]. The program helps to ensure that requested data can be provided in the desired format, reporting burden (time and financial resources) is minimized, collection instruments are clearly understood, and the impact of the collection requirements on respondents can be properly assessed.

The proposed follow-up survey information collection is for an evaluation of the impact of the Green Jobs and Health Care ARRA-funded training grants. This evaluation is sponsored by ETA to understand the processes surrounding the design and implementation of these grants.

DATES: Written comments must be submitted to the office listed in the addresses section below on or before June 11, 2012.

ADDRESSES: A copy of this proposed information collection request may be obtained by contacting Savi Swick at 202-693-3382 (this is not a toll-free number) or email: swick.savi@dol.gov. Comments are to be submitted to Department of Labor/Employment and Training Administration, Attn: Savi Swick, 200 Constitution Avenue NW., Room N-5641, Washington, DC 20210. Written comments may be transmitted by facsimile to 202-693-2766 (this is not a toll-free number) or emailed to swick.savi@dol.gov.

SUPPLEMENTARY INFORMATION:

I. Background

The proposed follow-up survey information collection is for an evaluation of the impacts of the Green Jobs and Health Care (GJHC) training grants. This evaluation is sponsored by ETA for worker training and placement in high growth and emerging industries through training grants.

In February 2009, President Obama signed the ARRA into law in an effort to preserve and create jobs, promote economic growth, and assist those impacted by the recession. The ARRA included funding for four Solicitations for Grant Applications (SGAs) with the goal of training workers in the skills required to be employed in specific high-growth and emerging industries including health care, energy efficiency, and renewable energy. This study focuses on the following two SGAs:

• Pathways Out of Poverty (POP) ($150 million for 38 projects).

• Health Care and Other High Growth Emerging Industries (HHG) ($225 million for 55 projects).

The overall aim of this evaluation is to determine the extent to which enrollees achieve increases in employment, earnings, and career advancement because of their participation in the training provided by POP and HHG grantees and to identify promising best practices and strategies for replication. Individuals enrolling in the GJHC training programs have a 50/50 chance of receiving these services. Those individuals not receiving the training services receive the existing services offered by the grantee. Education, employment, and other outcomes of the two groups will be compared over time to evaluate the GJHC training grant impact. The evaluation will estimate the success in providing educational and occupational skills training that fosters entry into job fields that are innovative and/or experiencing high growth, as in the health care industry.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Actions

This proposed information collection will involve collecting data from recipients of four DOL/ETA grants that provide funding to train unemployed, underemployed, dislocated, and incumbent workers for employment and to create career pathways in health care and other growing industries.

Agency: Employment and Training Administration.

Type of Review: New Collection.

Title of Collection: Follow-up Survey Information for Green Jobs and Health Care Impact Evaluation of ARRA-funded Grants.

OMB Control Number: 1205-0NEW.

Affected Public: Individuals or households; State, local, and Tribal Governments.

Estimated Number of Respondents: 4,024.

Frequency: Once at 18 months and once at 36 months.

Total Estimated Annual Responses: 4,024.

Estimated Total Annual Burden Hours: 4,426.

Total Annualized Capital and Startup Costs: $0.

Total Annualized Operation and Maintenance Costs: $0.

Total Estimated Annual Cost Burden: $85,953.

Data collection activity | Number of respondents | Total burden hours | Average hourly wage rate | Total annualized cost
Follow-up Surveys:
a. 18-month | 4,024 | 2,213 | $19.42 | $42,976.5
b. 36-month | 4,024 | 2,213 | 19.42 | 42,976.5
TOTAL | 4,024 | 4,426 | n/a | 85,953

Comments submitted in response to this notice will be summarized and may be included in the request for Office of Management and Budget approval of the final information collection request. The comments will become a matter of public record.

Dated: Signed at Washington, DC on this 3rd day of April, 2012.
Jane Oates,
Assistant Secretary, Employment and Training Administration.

[FR Doc. 2012-8724 Filed 4-11-12; 8:45 am]

BILLING CODE 4510-FN-P